DEPARTMENT OF VETERANS AFFAIRS

Enhanced-Use Lease (EUL) of Department of Veterans Affairs (VA) Real Property for the Development of Permanent Supportive Housing at the Doris Miller VA Medical Center (VAMC), Waco, Texas Campus

AGENCY: Department of Veterans Affairs.

ACTION: Notice of intent to enter into an EUL.

SUMMARY: The purpose of this Federal Register notice is to provide the public with notice that the Secretary of Veterans Affairs intends to enter into an EUL of Buildings 19, 20 and 21 on approximately 3.4 acres of underutilized land on the campus of the Doris Miller VAMC.

FOR FURTHER INFORMATION CONTACT: C. Brett Simms, Executive Director, Office of Asset Enterprise Management, Office of Management, 810 Vermont Avenue NW, Washington, DC 20420, 202-632-7092. This is not a toll-free number.

SUPPLEMENTARY INFORMATION: Pursuant to 38 U.S.C. 8161, et seq. as amended by Public Law 117-168, the Secretary of Veterans Affairs is authorized to enter into an EUL, for a term of up to 99 years, that (a) provides supportive housing for Veterans and their families, or (b) enhances the use of the leased property by directly or indirectly benefitting Veterans. Additionally, the EUL must not be inconsistent with and not adversely affect VA's mission or the operation of VA's facilities, programs and services in the area of the leased property. Consistent with this authority, the Secretary intends to enter into an EUL for the purpose of outleasing Buildings 19, 20 and 21 on approximately 3.4 acres of underutilized land on the campus of the Doris Miller VAMC, to develop approximately 34 units of permanent supportive housing for Veterans and their families. The competitively selected EUL lessee/developer, Wellington Waco USA, LP, will finance, design, develop, renovate, construct, manage, maintain and operate housing for eligible homeless Veterans or Veterans at risk of homelessness on a priority placement basis. Additionally, the lessee/developer will be required to provide supportive services that guide Veteran residents towards long-term independence and self-sufficiency.

Signing Authority

Denis McDonough, Secretary of Veterans Affairs, approved and signed this document on October 19, 2023, and authorized the undersigned to sign and submit the document to the Office of the Federal Register for publication electronically as an official document of the Department of Veterans Affairs.

Jeffrey M. Martin,
Assistant Director, Office of Regulation Policy & Management, Office of General Counsel, Department of Veterans Affairs.

[FR Doc. 2023-23818 Filed 10-27-23; 8:45 am]

BILLING CODE 8320-01-P